FEDERAL COMMUNICATIONS COMMISSION

47 CFR Part 24

[GEN Docket No. 90-314, ET Docket No. 92-100, PP Docket No. 93-253; FCC 00-159]

Narrowband Personal Communications Services; Competitive Bidding

AGENCY: Federal Communications Commission.

ACTION: Notice of proposed rule making.

SUMMARY: In this document the Commission seeks comment on whether it should license the one megahertz of narrowband Personal Communications Services (PCS) spectrum that has been held in reserve. The Commission seeks comment on how to channelize this one megahertz and on whether the unlicensed narrowband PCS spectrum that has already been channelized should be rechannelized to create licenses authorizing the use of larger blocks of spectrum.

DATES: Comments are due on or before July 5, 2000, and reply comments are due on or before July 20, 2000.

ADDRESSES: All comments and reply comments must be sent to Office of the Secretary, Federal Communications Commission, 445 12th Street, SW, Washington, DC 20554.

FOR FURTHER INFORMATION CONTACT: Alice Elder, Auctions and Industry Analysis Division, Wireless Telecommunications Bureau, at (202) 418-0660.

SUPPLEMENTARY INFORMATION: This is a summary of a Second Further Notice of Proposed Rule Making (Second FNPRM) adopted on May 5, 2000, and released on May 18, 2000. The complete text of this Second FNPRM is available for inspection and copying during normal business hours in the FCC Reference Center (Room CY-A257), 445 12th Street, SW, Washington, DC. It may also be purchased from the Commission's copy contractor, International Transcription Services, Inc. (ITS, Inc.), 1231 20th Street, NW, Washington, DC 20036, (202) 857-3800. It is also available on the Commission's web site at http://www.fcc.gov/wtb/auctions.

Synopsis of the Second Further Notice of Proposed Rule Making

1. The Commission tentatively concludes that it is in the public interest to proceed with licensing the one megahertz of narrowband PCS spectrum that has been held in reserve. Although a number of commenters argue that it is premature to auction this spectrum, considerable time has elapsed since these comments were filed. Moreover, the demand for spectrum has increased dramatically as a result of explosive growth in wireless communications and there is very little unencumbered spectrum available for new services. Thus, the Commission believes that the narrowband PCS reserve spectrum, which is unencumbered, should be made available to those interested in bringing new and innovative services to the public. To facilitate the introduction of new and innovative services, the Commission also tentatively concludes that the reserve spectrum should be auctioned along with all of the other remaining unlicensed narrowband PCS spectrum. If the Commission ultimately decides that it is not in the public interest to auction the reserve spectrum at the same time as other remaining unlicensed spectrum, it nonetheless believes that it should proceed now with channelizing the reserve spectrum so that it is prepared to license this spectrum without delay when the market is ready to use it. The Commission seeks comment on these tentative conclusions.

2. The Commission seeks comment on how the reserve spectrum should be channelized. The current record does not provide an adequate basis for determining the best channelization plan for this spectrum. In Amendment of the Commission's Rules to Establish New Personal Communications Services, Narrowband PCS, Report and Order, 62 FR 27507 (May 20, 1997), and Further Notice of Proposed Rulemaking, 62 FR 27563 (May 20, 1997), the Commission sought comment on establishing two 300 kHz licenses and one 400 kHz license, and the Commission believes that it may make sense to create channel blocks that are larger than those currently in existence. Larger blocks may be useful to those seeking to provide innovative services.

3. In light of its tentative conclusion that the reserve spectrum should be auctioned simultaneously with all other remaining unlicensed narrowband PCS spectrum, the Commission also seeks comment on whether the unlicensed spectrum that has already been channelized should be rechannelized to create licenses authorizing the use of larger blocks of spectrum. The Commission asks commenters to address whether such rechannelization would facilitate the development of innovative services or otherwise assist narrowband PCS licensees in competing against other wireless sectors.

Procedural Matters

A. Ex Parte Rules—Permit-But-Disclose Proceeding

4. This is a permit-but-disclose notice and comment rule making proceeding. Ex parte presentations are permitted except during the Sunshine Agenda period, provided they are disclosed as provided in the Commission's rules. See generally 47 CFR 1.1202, 1.1203, and 1.1206(a).

B. Regulatory Flexibility Act Analysis

5. As required by the Regulatory Flexibility Act, 5 U.S.C. 603, the Commission has prepared an Initial Regulatory Flexibility Analysis (IRFA) for this Second FNPRM.

C. Paperwork Reduction Act Analysis

6. This Second FNPRM contains neither a new nor a modified information collection.

D. Comment Dates

7. Pursuant to applicable procedures set forth in 47 CFR 1.415, 1.419, interested parties may file comments on or before July 5, 2000, and reply comments on or before July 20, 2000. All relevant and timely comments will be considered by the Commission before final action is taken in this proceeding. Comments may be filed using the Commission's Electronic Comment Filing System (ECFS) or by filing paper copies. See Electronic Filing of Documents in Rulemaking Proceedings, 63 FR 24121 (May 1, 1998). Parties who choose to file by paper must file an original and four copies of each filing. If interested parties want each Commissioner to receive a personal copy of their comments, an original plus nine copies must be filed. If more than one docket or rulemaking number appear in the caption of this proceeding, commenters must submit two additional copies for each additional docket or rulemaking number. All comments and reply comments must be sent to the Commission's Secretary, Magalie Roman Salas, Office of the Secretary, Federal Communications Commission, 445 12th Street, SW, Room TW-A325, Washington, D.C. 20554. One copy should also be sent to the Commission's copy contractor, International Transcription Service, Inc., 1231 20th Street, NW, Washington, DC 20036. In addition, a courtesy copy should be delivered to Alice Elder, Auctions and Industry Analysis Division, Wireless Telecommunications Bureau, Federal Communications Commission, 445 12th Street, SW, Washington, DC 20554.

8. Parties who choose to file by paper should also submit their comments on diskette. These diskettes should be submitted to Alice Elder, Auctions and Industry Analysis Division, Wireless Telecommunications Bureau, Federal Communications Commission, 445 12th Street, SW, Washington, DC 20554. Such a submission should be on a 3.5 inch diskette formatted in an IBM compatible format using Word or compatible software. The diskette should be accompanied by a cover letter and should be submitted in “read only” mode. The diskette should be clearly labeled with the commenter's name, proceeding (including GEN Docket No. 90-314, ET Docket No. 92-100, PP Docket No. 93-253), type of pleading (comment or reply comment), date of submission, and the name of the electronic file on the diskette. The label should also include the following phrase: “Disk Copy—Not an Original.” Each diskette should contain only one party's pleadings, preferably in a single electronic file. In addition, commenters must send diskette copies to the Commission's copy contractor, International Transcription Service, Inc., 1231 20th Street, NW, Washington, DC 20036.

9. Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and a reference to GEN Docket No. 90-314, ET Docket No. 92-100, and PP Docket No. 93-253. Parties may also submit an electronic comment by Internet e-mail. To obtain filing instructions for e-mail comments, commenters should send an e-mail to ecfs@fcc.gov, and should include the following words in the body of the message: “get form <your e-mail address>.” A sample form and directions will be sent in reply. Or you may obtain a copy of the ASCII Electronic Transmittal Form (FORM-ET) at http://www.fcc.gov/efile/email.html.

10. Documents filed in this proceeding will be available for public inspection during regular business hours at the FCC Reference Information Center, 445 12th Street, SW, Washington, DC 20554, and will be placed on the Commission's Internet site.

E. Ordering Clauses

11. Authority for issuance of this Second FNPRM is contained in sections 4(i), 257, 303(r), and 309(j) of the Communications Act of 1934, as amended, 47 U.S.C. 154(i), 257, 303(r), and 309(j).

12. The Commission's Consumer Information Bureau, Reference Information Center, shall send a copy of this Second FNPRM, including the Initial Regulatory Flexibility Analysis, to the Chief Counsel for Advocacy of the Small Business Administration.

Initial Regulatory Flexibility Analysis

13. As required by the Regulatory Flexibility Act (RFA), the Commission has prepared this present Initial Regulatory Flexibility Analysis (IRFA) of the possible significant economic impact on small entities by the policies and rules proposed in this Second FNPRM. Written public comments are requested on this IRFA. Comments must be identified as responses to the IRFA and must be filed by the deadlines for comments on the Second FNPRM. The Commission will send a copy of the Second FNPRM, including this IRFA, to the Chief Counsel for Advocacy of the Small Business Administration. See 5 U.S.C. 603(a).

A. Need for and Objectives of this Action

14. This Second FNPRM is being initiated to secure comment on the Commission's tentative conclusion that the one megahertz of narrowband PCS reserve spectrum should be licensed. The Commission believes that this spectrum, which is unencumbered, should be made available to those interested in bringing new and innovative services to the public, and that the Commission should work to avoid any shortage of spectrum that might limit service options. The Second FNPRM also seeks comment on how the reserve spectrum should be channelized. The Commission believes that creating channel blocks that are larger than those currently in existence may be useful to those seeking to provide innovative services. Finally, the Second FNPRM seeks comment on whether rechannelizing the unlicensed spectrum that has already been channelized, to create licenses authorizing the use of larger blocks of spectrum, would facilitate the development of innovative services or otherwise assist narrowband PCS licensees in competing against other wireless sectors.

B. Legal Basis

15. This action is authorized under sections 4(i), 303(r), and 309(j) of the Communications Act of 1934, as amended, 47 U.S.C. 154(i), 303(r), and 309(j).

C. Description and Estimate of the Number of Small Entities to Which the Proposed Rules Will Apply

16. The Final Regulatory Flexibility Analysis (FRFA) for the Second R&O adopted simultaneously with the Second FNPRM describes in detail the small entities that the Commission expects will be affected by the rules adopted in the Second R&O (published elsewhere in this issue of the Federal Register). These same entities would be affected by the rules proposed in the Second FNPRM. The number and description of such entities contained in Section iii of the FRFA are hereby incorporated in this IRFA.

D. Reporting, Recordkeeping, and Other Compliance Requirements

17. The Commission does not anticipate any additional reporting, recordkeeping, or other compliance requirements as a result of this Second FNPRM.

E. Steps Taken to Minimize Significant Economic Impact on Small Entities and Significant Alternatives Considered

18. The RFA requires an agency to describe any significant alternatives that it has considered in reaching its proposed approach, which may include the following four alternatives:

(a) The establishment of differing compliance or reporting requirements or timetables that take into account the resources available to small entities;

(b) The clarification, consolidation, or simplification of compliance or reporting requirements under the rule for small entities;

(c) The use of performance, rather than design, standards; and

(d) An exemption from coverage of the rule, or any part thereof, for small entities.

19. In the Second FNPRM the Commission seeks comment on whether the narrowband PCS reserve spectrum should be licensed. The Commission believes that licensing this spectrum would make it easier for innovators to acquire spectrum and develop services, and that this goal is consistent with promoting opportunities for small businesses. The Commission also seeks comment on whether rechannelizing the unlicensed spectrum that has already been channelized would assist narrowband PCS licensees in competing against other services.

F. Federal Rules That Overlap, Duplicate, or Conflict With These Rules

20. None.

List of Subjects in 47 CFR Part 24

Communications common carriers, Personal communications services, Radio, Reporting and recordkeeping requirements.

Federal Communications Commission.
William F. Caton,
Deputy Secretary.

[FR Doc. 00-13962 Filed 6-2-00; 8:45 am]

BILLING CODE 6712-01-P